UNITED STATES INSTITUTE OF PEACE

Board of Directors Meeting

AGENCY: United States Institute of Peace.

ACTION: Notice.

SUMMARY: Board of Directors meeting.

DATES: Friday, January 23, 2015 (10 a.m.-4 p.m.).

ADDRESSES: 2301 Constitution Avenue NW., Washington, DC 20037.

FOR FURTHER INFORMATION CONTACT: Denson Staples, Assistant to the Board Liaison, Email: dstaples@usip.org.

SUPPLEMENTARY INFORMATION: Status: Open Session—Portions may be closed pursuant to Subsection (c) of Section 552(b) of Title 5, United States Code, as provided in subsection 1706(h)(3) of the United States Institute of Peace Act, Public Law 98-525.

Agenda: January 23, 2015 Board Meeting; Approval of Minutes of the One Hundred Fifty-Third Meeting (October 20, 2014) of the Board of Directors; Welcome New President Nancy Lindborg; Chairman's Report; Acting President's Report; Strategic Plan Evaluation Update; Impact Initiative; Project Updates; Other General Issues.

Dated: January 20, 2015.
Michael Graham,
Senior Vice President for Management and Chief Financial Officer, United States Institute of Peace.

[FR Doc. 2015-01244 Filed 1-26-15; 8:45 am]

BILLING CODE 6820-AR-P